DEPARTMENT OF EDUCATION

[Docket No.: ED-2024-SCC-0145]

Agency Information Collection Activities; Comment Request; High School Longitudinal Study of 2009 (HSLS:09)—Third Follow-Up

AGENCY: Institute of Education Sciences (IES), Department of Education (ED).

ACTION: Notice.

SUMMARY: In accordance with the Paperwork Reduction Act (PRA) of 1995, the Department is proposing a reinstatement with change of a previously approved information collection request (ICR).

DATES: Interested persons are invited to submit comments on or before February 18, 2025.

ADDRESSES: To access and review all the documents related to the information collection listed in this notice, please use https://www.regulations.gov by searching the Docket ID number ED-2024-SCC-0145. Comments submitted in response to this notice should be submitted electronically through the Federal eRulemaking Portal at https://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-1200.

FOR FURTHER INFORMATION CONTACT: For specific questions related to collection activities, please contact Carrie Clarady, (202) 245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: High School Longitudinal Study of 2009 (HSLS:09)—Third Follow-Up.

OMB Control Number: 1850-0852.

Type of Review: Reinstatement with change of a previously approved ICR.

Respondents/Affected Public: Individuals or Households. Total Estimated Number of Annual Responses: 11,600.

Total Estimated Number of Annual Burden Hours: 1,933.

Abstract: The High School Longitudinal Study of 2009 (HSLS:09) is conducted by the National Center for Education Statistics (NCES), part of the Institute of Education Sciences (IES) within the U.S. Department of Education. The HSLS:09 base-year data collection took place in the 2009-10 school year, with a randomly selected sample of fall-term 9th-graders in more than 900 public and private high schools with both 9th and 11th grades. This fall 2009 cohort of 9th graders has been followed over time, with follow-up interviews in spring 2012 and summer-fall 2013 and a collection of administrative records (such as high school transcripts). HSLS:09 data allows researchers, educators, and policymakers to examine motivation, achievement, and persistence in STEM (as well as non-STEM) coursetaking and careers. More generally, HSLS:09 data will allow researchers from a variety of disciplines to examine issues of college entry, persistence and success, and how changes in young people's lives and their connections with communities, schools, teachers, families, parents, and friends affect these decisions.

This request is to conduct the third follow-up of the High School Longitudinal Study of 2009 (HSLS:09). This submission includes materials and justification for the HSLS:09 third follow-up and includes approximately 23,000 sample members who were in 9th grade in 2009 during the base-year data collection. Most of the data for the third follow-up will be obtained by administrative data matching. Sample members will also be invited to complete a brief web survey. In addition to supporting statements, this submission includes: a membership list of the Technical Review Panel (TRP) (appendix A); a description of the confidentiality procedures in place for the administrative record matching (appendix B); study communication materials (appendix C); and the survey instrument (appendix D).

This submission covers HSLS:09 third follow-up materials and procedures required for administering a brief survey for sample members and administrative records matching. This submission is designed to adequately justify the need for and overall practical utility of the third follow-up study, presenting the plan for the data collection and providing as much detail about the measures to be used as is available at the time of this submission. For this full-scale study NCES will publish a notice in the Federal Register allowing for an initial 60-day public comment period and then an additional 30-day public comment period.

Dated: December 16, 2024.
Juliana Pearson,
PRA Coordinator, Strategic Collections and Clearance, Governance and Strategy Division, Office of Chief Data Officer, Office of Planning, Evaluation and Policy Development.

[FR Doc. 2024-30262 Filed 12-18-24; 8:45 am]

BILLING CODE 4000-01-P